DEPARTMENT OF JUSTICE

Antitrust Division

Notice Pursuant To the National Cooperative Research and Production Act of 1993—Opendaylight Project, Inc.

Notice is hereby given that, on May 23, 2013, pursuant to Section 6(a) of the National Cooperative Research and Production Act of 1993, 15 U.S.C. 4301 et seq. (“the Act”), OpenDaylight Project, Inc. (“OpenDaylight”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Alcatel-Lucent USA Inc., Mountain View, CA; Arista Networks Inc., Santa Clara, CA; Big Switch Networks, Mountain View, CA; Brocade Communications Systems, Inc., San Jose, CA; Ciena Corporation, Hanover, MD; Cisco Systems Inc., San Jose, CA; Citrix Systems, Inc., Santa Clara, CA; Cyan Inc., Petaluma, CA; Dell Inc., Round Rock, TX; Ericsson Inc., San Jose, CA; Fujitsu Limited, Kawasaki, JAPAN; Hewlett Packard Company, Palo Alto, CA; Huawei Technologies Co. Ltd., Shenzhen, PEOPLE'S REPUBLIC OF CHINA; International Business Machines Inc., Endicott, NY; Inocybe Technologies Inc., Gatineau, Quebec City, CANADA; Intel Corporation, Santa Clara, CA; Juniper Networks, Sunnyvale, CA; Microsoft Corporation, Redmond, WA; NEC Corporation, Tokyo, JAPAN; PLUMgrid Inc., Sunnyvale, CA; Radware LTD, Telaviv, ISRAEL; Red Hat Inc., Raleigh, NC; and VMware Inc., Palo Alto, CA.

The general area of OpenDaylight's planned activity is to (a) Advance the creation, evolution, promotion, and support of an open source software defined network software platform (“Platform”); (b) support and maintain the strategic framework of the Platform through the technologies made available by the organization to make the Platform a success; (c) support and maintain policies set by the Board; (d) promote such Platform worldwide; and (e) undertake such other activities as may from time to time be appropriate to further the purposes and achieve the goals set forth above.

Patricia A. Brink,
Director of Civil Enforcement, Antitrust Division.

[FR Doc. 2013-15640 Filed 6-28-13; 8:45 am]

BILLING CODE P